DEPARTMENT OF HOMELAND SECURITY

Coast Guard

33 CFR Part 117

[Docket No. USCG-2008-0450]

Drawbridge Operation Regulation; Sacramento River, Sacramento, CA

AGENCY: Coast Guard, DHS.

ACTION: Notice of temporary deviation from regulations.

SUMMARY: The Commander, Eleventh Coast Guard District, has issued a temporary deviation from the regulation governing the operation of the Tower Drawbridge across the Sacramento River, mile 59.0, at Sacramento, California. The deviation is necessary to allow the California Department of Transportation (Caltrans) to conduct major roadwork on Interstate 5 through downtown Sacramento. This deviation allows the drawspan to remain in the closed-to-navigation position during rush hour time periods.

DATES: This deviation is effective from 6 a.m. on June 2, 2008 through 8 p.m. on July 14, 2008.

ADDRESSES: Documents indicated in this preamble as being available in the docket are part of docket USCG-2008-0450 and are available online at http://www.regulations.gov. They are also available for inspection or copying at two locations: the Docket Management Facility (M-30), U.S. Department of Transportation, West Building Ground Floor, Room W12-140, 1200 New Jersey Avenue, SE., Washington, DC 20590, between 9 a.m. and 5 p.m., Monday through Friday, except Federal holidays, and Commander (dpw), Eleventh Coast Guard District, Building 50-2, Coast Guard Island, Alameda, CA 94501-5100, between 8 a.m. and 4 p.m., Monday through Friday, except Federal holidays.

FOR FURTHER INFORMATION CONTACT: David H. Sulouff, Chief, Bridge Section, Eleventh Coast Guard District, telephone (510) 437-3516.

SUPPLEMENTARY INFORMATION: Caltrans requested a temporary change to the operation of the Tower Drawbridge, mile 59.0, across the Sacramento River, at Sacramento, California. The Tower Drawbridge provides a vertical clearance of 30 feet above Mean High Water in the closed-to-navigation position. The drawspan opens on signal from May 1 through October 31 from 6 a.m. to 10 p.m. and from November 1 through April 30 from 9 a.m. to 5 p.m. At all other times the drawspan shall open on signal if at least four hours notice is given, as required by 33 CFR 117.189. Navigation on the waterway is commercial and recreational. The drawspan will be secured in the closed-to-navigation position from 6 a.m. to 10 a.m. and from 3 p.m. to 8 p.m. June 2, 2008 through June 6, 2008; June 16, 2008 through June 20, 2008; June 27, 2008; June 30, 2008 through July 2, 2008; July 9, 2008 through July 11, 2008; and July 14, 2008. Special provisions have been made to accommodate commercial waterway traffic. The drawspan shall open for vessels at 6 p.m. on each Friday during the deviation period and at 6 p.m. on June 3, 2008 and June 5, 2008.

These closures will allow an unimpeded alternate route for rush hour commuter traffic, across the Tower Drawbridge, during major construction work on Interstate 5 through downtown Sacramento. This temporary deviation has been coordinated with waterway users. Adjustments to the schedule were made to minimize impacts to commercial waterway traffic. There is no anticipated levee maintenance during this deviation period. No objections to the proposed temporary deviation were raised.

Vessels that can transit the drawspan, while in the closed-to-navigation position, may continue to do so at any time.

In the event of an emergency the drawspan can be opened once road traffic is cleared.

In accordance with 33 CFR 117.35(e), the drawbridge must return to its regular operating schedule immediately at the end of the designated time period. This deviation from the operating regulations is authorized under 33 CFR 117.35.

Dated: May 29, 2008.
J.E. Long,
Captain, U.S. Coast Guard, Acting Commander, Eleventh Coast Guard District.

[FR Doc. E8-12802 Filed 6-5-08; 8:45 am]

BILLING CODE 4910-15-P